DEPARTMENT OF ENERGY

Federal Energy Regulatory Commission

[Docket No. RP97-14-007]

Midwestern Gas Transmission Company; Notice of Negotiated Rate Filing

May 26, 2000.

Take notice that on May 18, 2000, Midwestern Gas Transmission Company (Midwestern), tendered for filing and acceptance a copy of an executed firm gas transportation service agreement pursuant to Midwestern's Rate Schedule FT-A between Midwestern and Dynegy Marketing and Trade (Dynegy) (Contract No. 33395); and a copy of an April 18, 2000 Firm Transportation Negotiated Rate Letter Agreement entered into by Midwestern and Dynegy for Contract No. 33395 (Letter Agreement). The filed Contract No. 33395 and the Letter Agreement reflect a negotiated rate arrangement between Midwestern and Dynegy (Negotiated Rate Arrangement). Midwestern seeks a June 1, 2000 effective date for the Negotiated Rate Arrangement.

Any person desiring to be heard or to protest said filing should file a motion to intervene or a protest with the Federal Energy Regulatory Commission, 888 First Street, NE., Washington, DC 20426, in accordance with sections 385.214 or 385.211 of the Commission's Rules and Regulations. All such motions or protests must be filed on or before June 1, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13776 Filed 6-1-00; 8:45 am]

BILLING CODE 6717-01-M